DEPARTMENT OF EDUCATION

34 CFR Parts 361, 363, and 397

[Docket ID ED-2015-OSERS-0001]

State Vocational Rehabilitation Services Program; State Supported Employment Services Program; Limitations on Use of Subminimum Wage

AGENCY: Office of Special Education and Rehabilitative Services, Department of Education.

ACTION: Notice of public meetings.

SUMMARY: The Secretary announces plans to hold two public meetings to seek comments about the proposed regulatory changes contained in a notice of proposed rulemaking (NPRM) that was published in the Federal Register on April 16, 2015, which would implement statutory changes to the State Vocational Rehabilitation Services and the State Supported Employment Services programs, as well as provisions governing Limitations on the Use of Subminimum Wage that fall under the Secretary's purview. The statutory changes made by the Workforce Innovation and Opportunity Act (WIOA), which amended the Rehabilitation Act of 1973 (Rehabilitation Act), form the basis for this NPRM. In addition, the Secretary proposes to update, clarify, and improve the current regulations.

DATES: The meetings will take place on April 30, 2015, and May 20, 2015.

ADDRESSES: We will hold two public meetings about the NPRM:

1. April 30, 2015, 1:00 p.m. to 5:00 p.m. EDT, Washington-Lyndon Baines Johnson (LBJ), U.S. Department of Education Building, 400 Maryland Ave. SW., Barnard Auditorium, Washington, DC 20202.

2. May 20, 2015, 1:00 p.m. to 5:00 p.m. PDT, Sacramento—California Department of Rehabilitation, 721 Capitol Mall, Room 242, Sacramento, CA 95814.

FOR FURTHER INFORMATION CONTACT: Janet LaBreck, U.S. Department of Education, 400 Maryland Avenue SW., room 5086, Potomac Center Plaza, Washington, DC 20202-2800. Telephone: (202) 245-7488 or by email: Janet.LaBreck@ed.gov.

If you use a telecommunications device for the deaf (TDD) or a text telephone (TTY), call the Federal Relay Service (FRS), toll free, at 1-800-877-8339.

SUPPLEMENTARY INFORMATION:

Background

The Workforce Innovation and Opportunity Act (WIOA) (Pub. L. 113-128), signed into law on July 22, 2014, made significant changes to the Rehabilitation Act of 1973 (Rehabilitation Act). As a result, in the separate NPRM (80 FR 21059, April 16, 2015), the Secretary proposes to amend parts 361 and 363 of title 34 of the Code of Federal Regulations (CFR). These parts, respectively, implement the:

• State Vocational Rehabilitation (VR) Services program; and

• State Supported Employment Services program.

In addition, WIOA added section 511 to title V of the Act. Section 511 limits the payment of subminimum wages to individuals with disabilities by employers holding special wage certificates under the Fair Labor Standards Act (FLSA). Although the Department of Labor administers the FLSA, some requirements of section 511 fall under the purview of the Department of Education. Therefore, the Secretary proposes to add a new part 397 to title 34 of the CFR to implement those particular provisions.

The proposed changes are further described under the Summary of Proposed Changes and Significant Proposed Regulations sections of the separate NPRM related to 34 CFR parts 361, 363, and 397.

Announcement of Public Meetings: The Office of Special Education and Rehabilitative Services will hold two public meetings during April and May of 2015. The meetings will provide the public with the opportunity to present public comments on only the separate NPRM amending 34 CFR parts 361, 363, and 397, which is the NPRM associated with Docket ID ED-2015-OSERS-0001. It is likely that each participant will be limited to five minutes. Speakers may also submit written comments at the public meetings. In addition, the Department will accept written comments through www.regulations.gov, as explained in the separate NPRM. This notice provides specific information about dates, locations, and times of these meetings in the ADDRESSES section.

Accessible Format: Individuals with disabilities may obtain this document in an alternative format (e.g., Braille, large print, audiotape, or compact disc) on request to the contact person listed under FOR FURTHER INFORMATION CONTACT.

Assistance to Individuals with Disabilities at the Public Meetings: The meeting sites are accessible to individuals with disabilities, and sign language interpreters will be available. If you will need an accommodation or auxiliary aid other than a sign language interpreter in order to participate in the meeting (e.g., other interpreting service such as oral, cued speech, or tactile interpreter; assistive listening device; or materials in accessible format), please contact the person listed under FOR FURTHER INFORMATION CONTACT at least two weeks before the scheduled meeting date. Although we will attempt to meet a request we receive after this date, we may not be able to make available the requested accommodation or auxiliary aid because of insufficient time to arrange it.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at: www.federalregister.gov. Specifically, through the advanced search feature of this site, you can limit your search to documents published by the Department.

Dated: April 13, 2015.
Sue Swenson,
Acting Assistant Secretary for Special Education and Rehabilitative Services.

[FR Doc. 2015-09318 Filed 4-22-15; 8:45 am]

BILLING CODE 4000-01-P